DEPARTMENT OF COMMERCE

National Oceanic and Atmospheric Administration

50 CFR Part 622

RIN 0648-AV14

Fisheries of the Caribbean, Gulf of Mexico, and South Atlantic; Shrimp Fishery of the Gulf of Mexico; Revisions to Allowable Bycatch Reduction Devices

AGENCY: National Marine Fisheries Service (NMFS), National Oceanic and Atmospheric Administration (NOAA), Commerce.

ACTION: Proposed rule; reopening of comment period.

SUMMARY: Due to a request from the Gulf of Mexico shrimp industry, and based on new information collected through a NMFS-funded cooperative research proposal, NMFS is reopening the comment period on the proposed rule that would revise the list of allowable bycatch reduction devices (BRDs) certified for use in the shrimp fishery of the Gulf of Mexico. Reopening the comment period would allow interested constituents adequate time to prepare comments based on the new information regarding the performance of BRDs. NMFS is reopening the comment period for the proposed rule on July 7, 2008 and it will remain open through August 6, 2008. The proposed rule is intended to improve bycatch reduction in the shrimp fishery and better meet the requirements of national standard 9.

DATES: The comment period for the proposed rule that published on June 3, 2008 (73 FR 31669) and closed on July 3, 2008, will reopen on July 7, 2008, and remain open through 4:30 p.m., eastern time, on August 6, 2008.

ADDRESSES: You may submit comments, identified by 0648-AV14, by any one of the following methods:

• Electronic Submissions: Submit all electronic public comments via the Federal e-Rulemaking Portal http://www.regulations.gov.

• Fax: 727-824-5308, Attn: Steve Branstetter.

• Mail: Steve Branstetter, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, Wordperfect, or Adobe PDF file formats only.

Copies of an Initial Regulatory Flexibility Analysis (IRFA), and Regulatory Impact Review (RIR) completed in support of the proposed rule are available from the Southeast Regional Office, NMFS, 263 13th Avenue South, St. Petersburg, FL 33701; phone: 727-824-5305; fax: 727-824-5308.

FOR FURTHER INFORMATION CONTACT: Steve Branstetter, telephone: 727-824-5305.

SUPPLEMENTARY INFORMATION: The fishery for shrimp in the exclusive economic zone of the Gulf is managed under the FMP prepared by the Gulf of Mexico Fishery Management Council. The FMP is implemented under the authority of the Magnuson-Stevens Fishery Conservation and Management Act by regulations at 50 CFR part 622.

On June 3, 2008 (73 FR 31669), NMFS published a proposed rule to revise the list of allowable BRDs used in the Gulf of Mexico shrimp fishery and requested comment by July 3, 2008. The Gulf of Mexico and South Atlantic Fisheries Foundation, Inc. (Foundation) recently conducted analyses regarding the efficacy of these BRDs under a Cooperative Research Program grant funded by NMFS. The new information from these analyses is currently being reviewed by the shrimp industry. The shrimp industry has requested a reopning of the comment period to allow sufficient time to review this new information and to comment on the proposed rule. Due to this request, NMFS will reopen the public comment period on the proposed rule on July 7, 2008 and it will remain open through August 6, 2008.

Authority: 16 U.S.C. 1801 et seq.

Dated: July 1, 2008.
Samuel D. Rauch III,
Deputy Assistant Administrator For Regulatory Programs, National Marine Fisheries Service.

[FR Doc. 08-1411 Filed 7-1-08; 4:05 pm]

BILLING CODE 3510-22-S